DEPARTMENT OF COMMERCE

National Oceanic and Atmospheric Administration

RIN 0648-XE298

Magnuson-Stevens Fishery Conservation and Management Act; General Provisions for Domestic Fisheries; Application for Exempted Fishing Permit; Correction

AGENCY: National Marine Fisheries Service (NMFS), National Oceanic and Atmospheric Administration (NOAA), Commerce.

ACTION: Notice; request for comments; correction.

SUMMARY: This document corrects the ADDRESSSES section to the Notice and request for comments that was published on March 1, 2016, which contained the wrong docket number and hyperlink to the Federal e-Rulemaking Portal for electronic submission of public comments. This correction changes the hyperlink and docket number.

DATES: Comments must be submitted in writing by March 31, 2016.

ADDRESSES: You may submit comments on this document, identified by NOAA-NMFS-2016-0022, by any of the following methods:

• Electronic Submission: Submit all electronic public comments via the Federal e-Rulemaking Portal. Go to www.regulations.gov/#!docketDetail;D=NOAA-NMFS-2016-0022, click the “Comment Now!” icon, complete the required fields, and enter or attach your comments. EFP applications will be available under Relevant Documents through the same link.

• Mail: Attn: Chris Fanning, NMFS West Coast Region, 501 W. Ocean Blvd., Suite 4200, Long Beach, CA 90802. Include the identifier “NOAA-NMFS-2016-0022” in the comments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Chris Fanning, NMFS, West Coast Region, 562-980-4198.

SUPPLEMENTARY INFORMATION:

Need for Correction

The original notice (March 1, 2016; 81 FR 10593) contained the wrong docket identifier number and hyperlink to the Federal e-Rulemaking Portal for electronic submission of public comments. This correction changes the hyperlink and docket identifier number. This document corrects the ADDRESSES section so that all interested parties have the necessary information pertaining to the Federal e-Rulemaking Portal for electronic submission of public comments. In addition, we've included the new ADDRESSES section above, for clarity.

Correction

In a Notice published on March 1, 2016 (81 FR 10593), on page 10593, please make the following correction: In the second and third column, the first paragraph and first two bulleted items under the ADDRESSES heading are corrected to read as follows:

“You may submit comments on this document, identified by NOAA-NMFS-2016-0022, by any of the following methods:

• Electronic Submission: Submit all electronic public comments via the Federal e-Rulemaking Portal. Go to www.regulations.gov/#!docketDetail;D=NOAA-NMFS-2016-0022, click the “Comment Now!” icon, complete the required fields, and enter or attach your comments. EFP applications will be available under Relevant Documents through the same link.

• Mail: Attn: Chris Fanning, NMFS West Coast Region, 501 W. Ocean Blvd., Suite 4200, Long Beach, CA 90802. Include the identifier “NOAA-NMFS-2016-0022” in the comments.”

Authority: 16 U.S.C. 1801 et seq.

Dated: March 4, 2016.
Emily H. Menashes,
Acting Director, Office of Sustainable Fisheries, National Marine Fisheries Service.

[FR Doc. 2016-05271 Filed 3-8-16; 8:45 am]

BILLING CODE 3510-22-P